DEPARTMENT OF ENERGY

Environmental Management Site-Specific Advisory Board, Idaho National Laboratory

AGENCY: Department of Energy.

ACTION: Notice of open meeting.

SUMMARY: This notice announces a meeting of the Environmental Management Site-Specific Advisory Board (EM SSAB), Idaho National Laboratory. The Federal Advisory Committee Act (Pub. L. 92-463, 86 Stat. 770) requires that public notice of this meeting be announced in the Federal Register.

DATES: Tuesday, July 18, 2006, 8 a.m.-5 p.m.; Wednesday, July 19, 2006, 8 a.m.-12 p.m.

Opportunities for public participation will be held Tuesday, July 18, from 1 to 1:15 p.m. and 4 to 4:15 p.m.; and Wednesday, July 19, from 11:45 to 12 p.m. Additional time may be made available for public comment during the presentations.

These times are subject to change as the meeting progresses, depending on the extent of comment offered.

ADDRESSES: Ameritel Inn, 645 Lindsay Boulevard, Idaho Falls, ID 83402.

FOR FURTHER INFORMATION CONTACT: Shannon A. Brennan, Federal Coordinator, Department of Energy, Idaho Operations Office, 1955 Fremont Avenue, MS-1216, Idaho Falls, ID 83415. Phone (208) 526-3993; Fax (208) 526-1926 or e-mail: Shannon.Brennan@nuclear.energy.gov or visit the Board's Internet home page at: http://www.inelemcab.org.

SUPPLEMENTARY INFORMATION: Purpose of the Board: The purpose of the Board is to make recommendations to DOE in the areas of environmental restoration, waste management, and related activities.

Tentative Topics (agenda topics may change up to the day of the meeting; please contact Shannon A. Brennan for the most current agenda):

• Test Area North (TAN)-607A Engineering Evaluation/Cost Analysis.

• Operable Unit 3-14 Tank Farm Soils Cleanup Alternatives.

• Mid-Year Environmental Management Lifecycle Baseline Review.

• Radioactive Waste Management Complex (RWMC) Remedial Investigation Baseline Risk Assessment.

• Calcine Overview.

• Overview of Environmental Regulations and Permitting.

• Sodium-Bearing Waste Determination Update.

Public Participation: The meeting is open to the public. Written statements may be filed with the Board either before or after the meeting. Individuals who wish to make oral presentations pertaining to agenda items should contact Shannon A. Brennan at the address or telephone number listed above. The request must be received five days prior to the meeting and reasonable provision will be made to include the presentation in the agenda. The Deputy Designated Federal Officer is empowered to conduct the meeting in a fashion that will facilitate the orderly conduct of business. Individuals wishing to make public comment will be provided a maximum of five minutes to present their comments.

Minutes: The minutes of this meeting will be available for public review and copying at the U.S. Department of Energy's Freedom of Information Public Reading Room, 1E-190, Forrestal Building, 1000 Independence Avenue, SW., Washington, DC 20585 between 9 a.m. and 4 p.m., Monday through Friday, except Federal holidays. Minutes will also be available by writing to Shannon A. Brennan, Federal Coordinator, at the address and phone number listed above.

Issued at Washington, DC, on June 26, 2006.
Rachel Samuel,
Deputy Advisory Committee Management Officer.

[FR Doc. 06-5908 Filed 6-29-06; 8:45 am]

BILLING CODE 6450-01-P